DEPARTMENT OF DEFENSE

Office of the Secretary

[Transmittal No. 22-33]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-33 and Policy Justification.

Dated: August 1, 2024.
Aaron T. Siegel,
Alternate OSD Federal Register Liaison Officer, Department of Defense.

BILLING CODE 6001-FR-P

BILLING CODE 6001-FR-C

Transmittal No. 22-33

Notice of Proposed Issuance of Letter of Offer Pursuant to Section 36(b)(1) of the Arms Export Control Act, as amended

(i) Prospective Purchaser: Government of Kuwait

(ii) Total Estimated Value:

Major Defense Equipment * | $ 0 million
Other | $250 million
TOTAL | $250 million

Funding Source: National Funds

(iii) Description and Quantity or Quantities of Articles or Services under Consideration for Purchase:

Major Defense Equipment (MDE):

None

Non-MDE:

Cartridge M80 Ball/M62 Tracer 7.62mm 4/1 linked; Cartridge MK211 4 Armor Piercing Incendiary (APIT) .50 Cal 4/1 linked; Cartridge M903/M962 Saboted Light Armor Penetrator-Tracer (SLAP-T) .50 Cal 4/1 linked; Cartridge KE-W A1 Armor-Piercing, Fin-Stabilized, Discarding Sabot-Tracer (APFSDS-T) 120mm; Cartridge, Insensitive Munition High Explosive Tracer (IM-HE-T) 120mm; Grenade, Screening-Smoke; containers; munitions; support and test equipment; integration and test support; spare and repair parts; U.S. Government and contractor engineering, technical and logistics support services; and other related elements of logistical and program support.

(iv) Military Department: Army (KU-B-UZC)

(v) Prior Related Cases, if any: None

(vi) Sales Commission, Fee, etc., Paid, Offered, or Agreed to be Paid: None

(vii) Sensitivity of Technology Contained in the Defense Article or Defense Services Proposed to be Sold: None

(viii) Date Report Delivered to Congress: September 27, 2022

* As defined in Section 47(6) of the Arms Export Control Act.

POLICY JUSTIFICATION

Kuwait—M1A2K Tank Operational and Training Ammunition

The Government of Kuwait has requested to buy Cartridge M80 Ball/M62 Tracer 7.62mm 4/1 linked; Cartridge MK211 4 Armor Piercing Incendiary (APIT) .50 Cal 4/1 linked; Cartridge M903/M962 Saboted Light Armor Penetrator-Tracer (SLAP-T) .50 Cal 4/1 linked; Cartridge KE-W A1 Armor-Piercing, Fin-Stabilized, Discarding Sabot-Tracer (APFSDS-T) 120mm; Cartridge, Insensitive Munition High Explosive Tracer (IM-HE-T) 120mm; Grenade, Screening-Smoke; containers; munitions; support and test equipment; integration and test support; spare and repair parts; U.S. Government and contractor engineering, technical and logistics support services; and other related elements of logistical and program support. The estimated cost is $250 million.

This proposed sale will support the foreign policy and national security objectives of the United States by helping to improve the security of a Major Non-NATO ally that has been an important force for political stability and economic progress in the Middle East.

The proposed sale will improve Kuwait's ability to meet current and future regional threats by enabling continued employment of the M1A2 Abrams main battle tank and supporting modernization of the country's tank fleet. This sale will provide an effective ability to deter and defend against land-based threats, enhancing Kuwait's ability to protect border regions and key land-based infrastructure. Kuwait will have no difficulty absorbing this equipment into its armed forces.

The proposed sale of this equipment and support will not alter the basic military balance in the region.

The principal contractor will be General Dynamics, York, PA. There are no known offset agreements proposed in connection with this potential sale.

Implementation of this proposed sale will not require the assignment of any additional U.S. Government or contractor representatives to Kuwait.

There will be no adverse impact on U.S. defense readiness as a result of this propose sale.

[FR Doc. 2024-17365 Filed 8-5-24; 8:45 am]

BILLING CODE 6001-FR-P